DEPARTMENT OF TRANSPORTATION

Federal Aviation Administration

14 CFR Part 61

Notice of Public Meeting: Updating the Flight Instructor Renewal Process To Enhance Safety of Flight

AGENCY: Federal Aviation Administration (FAA), DOT.

ACTION: Notice of public meeting.

SUMMARY: The FAA announces a public meeting to receive industry input as to how to improve the Certificated Flight Instructor (CFI) biennial renewal process to enhance the safety of flight in the General Aviation (GA) community. This is an information gathering meeting.

DATES: The public meetings will be held on the following dates.

• December 6, 2010, from 9 a.m. until no later than 4 p.m., and

• December 7, 2010 from 9 p.m. until no later than 4 p.m.

ADDRESSES: The December 6 and 7, 2010, public meetings will be held at the FAA headquarters building B, located at 600 Independence Avenue, SW., Washington, DC 20591.

Because of limited capacity, we ask that all those who anticipate attending the meeting contact Gregory.french@faa.gov with written confirmation of attendance and the number of members in the attending party. If we find that we are nearing capacity, we may request that those who are planning on sending more than a single representative reduce the number in their party. If this is the case, respondents will be notified by e-mail and/or phone prior to the meeting date.

FOR FURTHER INFORMATION CONTACT: Requests to attend this public meeting, questions regarding the logistics of the meeting, and any technical questions should be directed to Inspector Gregory French, AFS-800, General Aviation and Commercial Division, Federal Aviation Administration, 800 Independence Avenue, SW., Washington, DC 20591; telephone (202) 267-8212, facsimile (202) 267-5094, or, preferably, via e-mail at Gregory.french@faa.gov.

SUPPLEMENTARY INFORMATION:

Background

The FAA has been reviewing safety of flight data in the general aviation (GA) community over the last ten years. Even with the advent of new technologies to assist the GA pilot, there has been little improvement in the accident/incident rate among that community of aviators.

CFIs are responsible for ensuring that pilots are properly educated to operate safely within the National Airspace System (NAS). For CFIs to accomplish that mission effectively they must be provided the means and knowledge to do so, and there must be some objective method of measuring that information transfer and retention. The FAA has been reviewing indicators that suggest that the processes currently in place may lack sufficient effectiveness in ensuring that CFIs are being provided the best information in the most useful manner. This meeting will elicit input from the community of authorized flight instructor renewal program operators so that the FAA can better analyze how to improve the process.

Purpose of the Public Meeting

The purpose of this public meeting is for the FAA to hear the public's views and obtain information relevant to improving the CFI biennial renewal process. The FAA will consider comments made at this public meeting before making decisions on any suggested changes to the current policy.

More specifically, the FAA seeks information on the following questions. The FAA requests that that all meeting participants provide written comments to support any positions they may express support for, or disagreement with.

• How effective have Flight Instructor Refresher Clinics been in transferring relevant information to flight instructors?

• What can be done to improve the effectiveness of flight instructor refresher clinics?

• How effective are the written tests provided at the conclusion of flight instructor refresher clinics?

• How can the effectiveness of flight instructor knowledge be better assessed?

• How effective have the online courses been?

• How do we effectively measure the success of knowledge transfer in online flight instructor renewal courses?

• Should there be changes to 14 CFR part 61.197?

• Are those non-FIRC methods of CFI biennial certificate renewal found in 14 CFR part 61.197 adequate and effective in ensuring that CFIs possess the most up to date information in terms of both proficiency and knowledge?

• What can the community conducting flight instructor recurrent training, the FIRC providers, do to contribute to enhancing safety of flight among the GA community at large?

Participation at the Public Meetings

Commenters who wish to present oral statements at the December 6 and 7, 2010, public meetings will be permitted to do so on an ad-hoc basis during the meeting.

The FAA will have available a projector and a computer capable of accommodating Word and PowerPoint presentations from a compact disk (CD) or USB memory device. Persons requiring any other kind of audiovisual equipment should notify the FAA prior to the meeting.

Sign and oral interpretation can be made available at the meeting, as well as an assistive listening device, if requested 10 calendar days before the meeting.

Public Meeting Procedures

A panel of representatives from the FAA will be present. An FAA representative will facilitate the meetings in accordance with the following procedures:

(1) The meetings are designed to facilitate the public input on policies that directly affect them. The meetings will be informal and non-adversarial. No individual will be subject to cross-examination by any other participant. Government representatives on the panel may ask questions to clarify statements and to ensure an accurate record. Any statement made during the meetings by a panel member should not be construed as an official position of the government.

(2) There will be no admission fees or other charges to attend or to participate in the public meetings. The meetings will be open to all persons, subject to availability of space in the meeting room. The FAA will make every effort to accommodate all persons wishing to attend. The FAA asks that participants sign in at 9 a.m. on each day of the meeting being attended. The FAA will try to accommodate all speakers; however if available time does not allow this, speakers will be scheduled on a first-come-first-served basis. The FAA reserves the right to exclude some speakers, if necessary, to obtain balanced viewpoints. The meetings may adjourn early if scheduled speakers complete their statements in less time than is scheduled for the meetings.

(3) The FAA will prepare agendas of speakers and presenters and make the agendas available at the meetings.

(4) The meeting is intended to produce an environment conducive to an exchange of ideas. If speakers wish to give dedicated presentations, they may be limited to 5-10-minute statements. If possible, the FAA will notify speakers if additional time is available.

(5) The FAA will review and consider all material presented by participants at the public meetings. Position papers or materials presenting views or information related to the topics discussed may be accepted at the discretion of the presiding officer and will be subsequently placed in the public docket. If the attendees wish to provide written materials, the FAA requests that the presenters provide at least 10 copies of all materials for distribution to the panel members. Presenters may provide other copies to the audience at their discretion.

(6) Each person presenting comments is asked to submit data to support the comments. The FAA will protect from disclosure all proprietary data submitted in accordance with applicable laws.

Issued in Washington, DC on November 18, 2010.
Melvin O. Cintron,
Manager, General Aviation and Commercial Division.

[FR Doc. 2010-29921 Filed 11-26-10; 8:45 am]

BILLING CODE 4910-13-P